DEPARTMENT OF COMMERCE

International Trade Administration

[A-201-830]

Carbon and Certain Alloy Steel Wire Rod From Mexico: Notice of Correction to Final Results of Antidumping Duty Administrative Review and Final Determination of No Shipments; 2015-2016

AGENCY: Enforcement and Compliance, International Trade Administration, Department of Commerce.

FOR FURTHER INFORMATION CONTACT: Keith Haynes, AD/CVD Operations, Office III, Enforcement and Compliance, International Trade Administration, U.S. Department of Commerce, 1401 Constitution Avenue NW, Washington, DC 20230; telephone: (202) 482-5139.

SUPPLEMENTARY INFORMATION: On April 17, 2018, the Department of Commerce (Commerce) published the final results of the 2015-2016 antidumping duty administrative review of carbon and certain alloy steel wire rod from Mexico.¹ In that notice, Commerce inadvertently listed an incorrect weighted-average dumping margin of 12.57 percent for Deacero S.A.P.I. de C.V. (Deacero), a producer and exporter of wire rod.² The correct weighted-average dumping margin for Deacero is 12.56 percent.

¹ See Carbon and Certain Alloy Steel Wire Rod From Mexico: Final Results of Antidumping Duty Administrative Review and Final Determination of No Shipments; 2015-2016, 83 FR 16832 (April 17, 2018) (Final Results).

² Id., 83 FR at 16833.

This correction to the Final Results is issued and published in accordance with sections 751(a)(1) and 777(i)(l) of the Tariff Act of 1930, as amended.

Dated: April 26, 2018.
Christian Marsh,
Deputy Assistant Secretary for Enforcement and Compliance.

[FR Doc. 2018-09309 Filed 5-1-18; 8:45 am]

BILLING CODE 3510-DS-P